DEPARTMENT OF HEALTH AND HUMAN SERVICES

Centers for Medicare & Medicaid Services

42 CFR Parts 405, 410, 411, 414, and 415

[CMS-1169-CN]

RIN 0938-AK57

Medicare Program; Revisions to Payment Policies and Five-Year Review of and Adjustments to the Relative Value Units Under the Physician Fee Schedule for Calendar Year 2002; Correction

AGENCY: Centers for Medicare & Medicaid Services (CMS), HHS.

ACTION: Correction of final rule with comment period.

SUMMARY: This document corrects technical errors that appeared in the final rule with comment period published in the Federal Register on November 1, 2001 entitled “Revisions to Payment Policies and Five-Year Review of and Adjustments to the Relative Value Units Under the Physician Fee Schedule for Calendar Year 2002.”

EFFECTIVE DATE: January 1, 2002, except for the provisions updating the list of codes used to define certain “designated health services” under the physician self-referral prohibition set forth in section 1877 of the Social Security Act (42 U.S.C. section 1395nn). Those provisions are effective January 4, 2002.

FOR FURTHER INFORMATION CONTACT: Diane Milstead, (410) 786-3355.

SUPPLEMENTARY INFORMATION:

I. Background

In FR Doc. 01-27275 of November 1, 2001 (67 FR 55246), there were a number of technical errors that are identified and corrected in the Correction of Errors section below. Additionally there are various revisions to Addenda B, C and E. The provisions in this correction notice are effective as if they had been included in the document published November 1, 2001. Accordingly, the corrections regarding the update for the list of codes used to define certain “designated health services” under the physician self-referral prohibition set forth in section 1877 of the Social Security Act (42 U.S.C. section 1395nn) are effective January 4, 2002. All other corrections are effective January 1, 2002.

II. Discussion of Addenda B, C, and E

1. In Addendum B, we assigned incorrect status indicators for the following codes:

• Page 55334 for CPT codes 10021-26, 10021-TC, 10022-26, and 10022-TC.

• Page 55456 for CPT codes 93613-26 and 93613-TC;

• Page 55468 for HCPCS codes A4263 and A4329.

• Page 55469 for HCPCS code A4550.

• Page 55471 for HCPCS codes A5064, A5074, and A5075.

• Page 55480 for HCPCS code G0025.

• Page 55482 for HCPCS codes G0126, G0126-26, G0126-TC, G0163, G0163-26, G0163-TC, G0164, G0164-26, G0164-TC, G0165, G0165-26, and G0165-TC.

• Page 55483 for HCPCS codes G0203, G0205, G0205-26, G0205-TC, G0207, G0207-26, G0207-TC;

• Page 55489 for HCPCS codes J7193, J7195, J7198, and J7199.

• Page 55492 for HCPCS code Q0187.

• Page 55493 for HCPCS codes Q3014 and Q3017.

These corrections are reflected in correction number 18 to follow.

2. The following CPT codes were inadvertently excluded from addendum B:

• On page 55454, CPT codes 92597 and 92598.

• On page 55466, CPT codes 99375 and 99378.

Correction number 19, which follows, lists these codes and their corresponding RVUs.

3. We also used the incorrect status indicator and included RVUs for CPT codes 76390, 76390-26 and 76390-TC on page 55420, and CPT code 90887 on page 55450 although these services are not covered under Medicare. These corrections are reflected in correction number 20 to follow.

4. On page 55257 of the November 1, 2001 rule we indicated we were adding a catheter to the supply list for CPT code 36533 however, we erroneously omitted this supply from the CPEP data. The corrected practice expense RVUs that reflect the addition of this supply are shown in correction number 21 to follow.

5. On page 55419 of Addendum B and 55498 of Addendum C, we assigned incorrect practice expense RVUs to CPT codes 76085 and 76085-TC. In addition, the global period for 76085-TC was listed incorrectly. Corrections are reflected in correction number 22 to follow.

6. In addendum B on page 55454 we failed to list the professional and technical components for CPT code 93025 and also assigned incorrect practice expense RVUs to 93025. The corrected practice expense RVUs as well as the values for the professional and technical components of this CPT code are listed in correction number 23 to follow.

7. On pages 55456, 55457 and 55461 we indicated the incorrect global period for CPT codes 93613, 93662-TC, 95824 and 95824-TC. The global period is corrected in number 24 to follow.

8. In Addenda B and C, incorrect practice expense RVUs were assigned for CPT codes 76092 and 76092-TC, 92136, 92136-26, 92136-TC, 95250, 95808, 95808-26, 95808-TC, 95810, 95810-26, 95810-TC, 95811, 95811-26, 95811-TC, 95903, 95903-26, 95903-TC, 95951, 95951-TC, 95956, 95956-TC and HCPCS codes G0108, G0109 G0236 and G0236-TC. Entries on the pages listed below are corrected as follows:

• Pages 55420 and 55499 for CPT codes 76092 and 76092-TC.

• Pages 55451 and 55452 for CPT codes 92136, 92136-26, 92136-TC.

• Page 55461 for CPT codes 95250, 95808, 95808-26, 95808-TC, 95810, 95810-26, 95810-TC, 95811, 95811-26, and 95811-TC.

• Page 55462 for CPT codes 95903, 95903-26, 95903-TC, 95951, and 95951-TC.

• Page 55463 for CPT codes 95956 and 95956-TC.

• Page 55481 for HCPCS G0108 and G0109.

• Pages 55484 and 55499 for HCPCS codes G0236 and G0236-TC.

Corrections are reflected in correction number 25 to follow.

9. On page 55464 of the November 1, 2001 rule we erroneously included the high-pressure water jet gun and disposable water jet tip in supplies used with code 97601. These supplies should be omitted from the CPEP data. The corrected practice expense RVUs, which reflect the deletion of these supplies, are shown in correction number 26 to follow.

10. On page 55498 of Addendum C, we failed to include the following G codes for respiratory therapy: G0237, G0238, and G0239. These G codes are reflected in correction number 27 to follow.

11. In Addendum E, concerning the physician self-referral prohibition, we mistakenly included three codes and omitted five codes. On page 55502, in the first column, CPT code “76390 MR spectroscopy” is removed. This service is not covered by Medicare (see section 50-13, “Magnetic Resonance Imaging,” of the Coverage Issues Manual (HCFA Pub. 6)) and was mistakenly included. On page 55502, in the second column, HCPCS code “G0188 Xray lwr extrmty-full lngth” is removed from the listing under “Radiology.” This code was discontinued under HCPCS effective December 31, 2001. On page 55502, in the third column under the heading “Radiation Therapy Services and Supplies,” the subheading that reads “INCLUDE CPT codes for radiation therapy classified elsewhere” is amended by adding the words “HCPCS and” after “INCLUDE”. Following the last entry under the revised subheading, the following codes are added: “G0242 Multisource photon ster plan” and “G0243 Multisour photon stero treat”.

These codes were inadvertently omitted from the November 1, 2001 rule. On page 55502, in the third column under the heading “Preventive Screening Tests, Immunizations and Vaccines,” HCPCS code “Q3018 Hepatitis B vaccine” is removed. This code was never incorporated under HCPCS. Also on page 55502, in the third column under the heading “Preventive Screening Tests, Immunizations and Vaccines,” CPT codes “90744 Hepb vacc ped/adol 3 dose im”, “90746 Hep b vaccine, adult, im”, and “90747 Hepb vacc, ill pat 4 dose im” are added in numerical order. These three codes were mistakenly removed. The additions and deletions to Addendum E are shown in correction number 28 and 29 to follow.

Note: To view the updated list of codes in its entirety, refer to our physician self-referral website at www.hcfa.gov/medlearn/refphys.htm.

III. Correction of Errors

In FR Doc. 01-27275 of November 1, 2001 (67 FR 55246), make the following corrections:

1. On page 55246, in column two, the “Effective date” section is corrected to read as follows:

“Effective date: This rule is effective January 1, 2002 except for the provisions updating the list of codes used to define certain “designated health services” under the physician self-referral prohibition set forth in section 1877 of the Social Security Act (42 U.S.C. section 1395nn). Those provisions appear in Addendum E and are effective January 4, 2002.”

As we explained in the preamble to the November 1, 2001 rule (66 FR 55311), the updated list of codes regarding certain designated health services under the physician self-referral prohibition would become effective on January 4, 2002 because that is the effective date for the relevant provisions of the physician self-referral final rule that was published on January 4, 2001. We inadvertently omitted the January 4, 2002 effective date from the Effective date section of the November 1, 2001 rule.

2. On page 55256, we failed to specify that we were not including certain supplies for CPT code 97601. Add the following at the top of the third column on this page:

“• For CPT code 97601, Wound(s), care selective, we deleted the hi pressure water jet gun and the disposable water jet tip from the supplies as these are not typically used in this procedure.”

3. On page 55269, column one in the table of codes the ASA base unit value for code 01916 should be “5” rather than “6”. Also under the discussion concerning anesthesia base units in the Result of Evaluation of Comments replace the word “proposed” in lines 11 and 16 with the word “assigned as interim values”.

4. On page 55272, the following corrections are made to Table 3.—2002 MAMMOGRAPHY PAYMENTS

CPT ¹/HCPCS | MOD | Descriptor | Work RVU | Practice expense RVU | Malpractice RVU | Total
76092 |  | Mammogram, screening | 0.70 | 1.47 | 0.09 | 2.26
76092 | 26 | Mammogram, screening | 0.70 | 0.25 | 0.03 | 0.98
76092 | TC | Mammogram, screening | 0.00 | 1.22 | 0.06 | 1.28
G0236 |  | Computer aided detect, diag | 0.06 | 0.41 | 0.02 | 0.49
G0236 | 26 | Computer aided detect, diag | 0.06 | 0.02 | 0.01 | 0.09
G0236 | TC | Computer aided detect, diag | 0.00 | 0.39 | 0.01 | 0.40
76085 |  | Computer aided detection | 0.06 | 0.41 | 0.02 | 0.49
76085 | 26 | Computer aided detection | 0.06 | 0.02 | 0.01 | 0.09
76085 | TC | Computer aided detection | 0.00 | 0.39 | 0.01 | 0.40
¹ CPT codes and descriptions only are copyright 2001 American Medical Association.

5. On page 55274, column two, in the second sentence of the response replace “compared to the key components of a level III evaluation and management (CPT code 99213)” with the following “compared to the key components of an evaluation and management service (CPT code 99213).

6. On page 55287, the footnote for table 4 is revised to reference the correct copyright date and should read as follows “CPT codes and descriptions only are copyright 2001 American Medical Association.”

7. On page 55291 in column one and column two after the discussions summarizing what was in the proposed notice and before the Comment discussion for CPT codes 43259 and 43263, 43265, and 43269 add the following sentence “We disagreed and proposed to maintain the current RVUs.”

8. On page 55295, the footnote for table 5 is revised to reference the correct copyright date and should read as follows “CPT codes and descriptions only are copyright 2001 American Medical Association.”

9. On page 55304, add the following information concerning CPT code 90474 in Table 6 between CPT code 90473 and CPT code 90939:

*CPT Code | Mod | Description | RUC recommendation | HCPAC recommendation | CMS Decision | 2002 work RVU
90474# |  | Immune admin oral/nasal addl | 0.15 |  | Disagree | 0.00

10. On page 55305, the last footnote for table 6 and the two footnotes for table 7 are revised to reference the correct copyright date and should read as follows “CPT codes and descriptions only are copyright 2001 American Medical Association.”

11. On page 55307, in the discussion of new and revised codes, language was inadvertently omitted from our discussion of CPT code 53853. Replace existing language beginning at first paragraph in column three (“We note * * *”) and the table in the middle of the page with the following:

We note that although the intraservice time for CPT code 53853 is sixty minutes, most of that time is spent monitoring the flow of hot water through a catheter and balloon and checking the water's temperature. We estimate that the maximum amount of time spent on activities other than monitoring is 20 minutes. This means that the work intensity for the intraservice portion of this procedure is significantly less than it is for most other surgical procedures and, specifically, the reference codes examined by the RUC. Therefore we compared CPT code 53853 to 90-day global procedures with less than 30 minutes of intraservice time and to zero-day globals involving insertion of catheters with similar intraservice times. For these reasons we compared CPT code 58350 to the following procedures:

CPT ¹ Code | Global period | Work RVU | Intraservice time (minutes) | Pre/post service time
53853 Transurethral destruction of prostate tissue; by water induced thermotherapy | 90 | RUC-6.41 | 60 | 113 (see below)
|  | CMS assigned RVU-4.14
30130 Excision turbinate, partial or complete, any method | 90 | 3.38 | 27 | 78
36520 Therapeutic Apheresis; plasma and/or cell exchange | 000 | 1.74 | 60 | 40
42826 Tonsillectomy, primary or secondary; age 12 or over | 90 | 3.38 | 28 | 82
46045 Incision and drainage of intramural, intramuscular, or submucosal abscess, transanal, under anesthesia | 90 | 4.32 | 25 | 206
49420 intraperitoneal cannula or catheter for drainage or dialysis; temporary | 000 | 2.22 | 48 | 39
46946 Ligation of internal hemorrhoids; multiple procedures | 90 | 3.0 | 25 | 75
53675 Catheterization, urethra; complicated (may include difficult removal of balloon catheter) | 000 | 1.47 | 30 | 26
58800 Drainage of ovarian cyst(s), unilateral or bilateral, (separate procedure); vaginal approach | 90 | 4.14 | 23 | 100
61105 Twist burr hole for subdural or ventricular puncture | 90 | 5.14 | 27 | 97
65810 Paracentesis of anterior chamber of eye (separate procedure); with removal of vitreous and/or discussion of anterior hyaloid membrane, with or without air injection | 90 | 4.87 | 28 | 104
67031 Severing of vitreous strands, vitreous face adhesions, sheets, membranes, or opacities, laser surgery (one or more stages) | 90 | 3.67 | 26 | 79
¹ CPT codes and descriptions only are copyright 2001 American Medical Association.

Additions and Deletions to the Physician Self-Referral Codes

12. On page 55312, Table 8—“Additions and Deletions to the Physician Self-Referral Codes” is amended as follows and is shown below:

a. Under the subheading “Additions,” by removing the periods after every entry; by removing spaces between words in the description of HCPCS codes G0202, G0204 and G0206; by adding in alphanumeric order the codes “G0242 Multisource photon ster plan” and “G0243 Multisour photon stero treat”; and by removing code “Q3018 Hepatitis B vaccine.”

b. Under the subheading “Deletions,” by removing the three entries under the subheading; and by adding the codes “76390 MR spectroscopy” and “G0188 Xray lwr extrmty-full lngth.”

c. By revising the footnote to read “CPT codes and descriptions only are copyright 2001 American Medical Association. All rights are reserved and applicable FARS/DFARS clauses apply.”

Table 8.—Additions and Deletions To The Physician Self-Referral Codes
Codes | Description
Additions CPT ¹ or HCPCS Codes:
76085 | Computer mammogram add-on
77301 | Radioltherapy dos plan, imrt
77418 | Radiation tx delivery, imrt
92974 | Cath place, cardio brachytx
96000 | Motion analysis, video/3d
96001 | Motion test w/ft press meas
96002 | Dynamic surface emg
96003 | Dynamic fine wire emg
G0202 | Screeningmammographydigital
G0204 | Diagnosticmammographydigital
G0206 | Diagnosticmammographydigital
G0236 | Digital film convert diag ma
G0242 | Multisource photon ster plan
G0243 | Multisour photon stero treat
J1270 | Injection, doxercalciferol
J1755 | Injection, iron sucrose
Deletions: CPT ¹ or HCPCS Codes:
76390 | MR spectroscopy
G0188 | Xray lwr extrmty-full lngth
¹ CPT codes and descriptions only are copyright 2001 American Medical Association. All rights are reserved and applicable FARS/DFARS clauses apply.

13. On page 55312 in the second column, the first paragraph is amended by revising the third sentence to read as follows: “Table 8 also includes 2 codes (G0202 and 76085) that we have identified as screening tests.”

14. On page 55329, 42 CFR 410.26(a)(3) is revised to read:

(a) * * *

(3) Independent contractor means an individual (or an entity that has hired such an individual) who performs part-time or full-time work for which the individual (or the entity that has hired such an individual) receives an IRS-1099 form.

* * * * *

15. On page 55331, 42 CFR 410.134(d)(ii) the word “dietician” is revised to read “dietitian”.

16. On page 55333 in Addendum B, in column three add the following after the entry for status indicator “E”:

* * * * *

F = Deleted/discontinued codes. (Code not subject to a 90-day grace period).

* * * * *

17. On page 55334 in Addendum B, in the first and second columns of the key describing Addenda B and C descriptions for the columns for practice expense RVUs (items 6 and 7) and totals (items 9 and 10) do not agree with the layout of the addenda. These descriptions are corrected as follows:

* * * * *

6. Non-facility practice expense RVUs. These are the fully implemented resource-based practice expense RVUs for non-facility settings.

7. Facility practice expense RVUs. These are the fully implemented resource-based practice expense RVUs for facility settings.

* * * * *

9. Non-facility total. This is the sum of the work, fully implemented non-facility practice expense, and malpractice expense RVUs.

10. Facility total. This is the sum of the work, fully implemented facility practice expense, and malpractice expense RVUs.

* * * * *

IV. Addenda B and C [Corrected]

In the Tables of Addenda B and C the following HCPCS codes are corrected to read as follows:

INSERT EXCEL TABLES HERE FOR ADDENDA B and C corrections FILE: CN1169rev130.xls

18. In the Table of Addendum B the following HCPCS codes are corrected to read as follows:

CPT ¹ HCPCS2 | MOD | Status | Description | Physician Work RVUs | Fully implemented non-facility PE RVUs | Fully implemented facility PE RVUs | Malpractice RVUs | Fully implemented non-facility total | Fully implemented facility total | Global
10021 | 26 | H | Fna w/o image | 1.27 | 0.55 | 0.55 | 0.07 | 1.89 | 1.89 | XXX
10021 | TC | H | Fna w/o image | 0.00 | 0.47 | NA | 0.03 | 0.50 | NA | XXX
10022 | 26 | H | Fna w/ image | 1.27 | 0.48 | 0.48 | 0.05 | 1.80 | 1.80 | XXX
10022 | TC | H | Fna w/ image | 0.00 | 0.63 | NA | 0.03 | 0.66 | NA | XXX
93613 | 26 | H | Electrophys map, 3d, add-on | 7.00 | 2.79 | 2.79 | 0.52 | 10.31 | 10.31 | XXX
93613 | TC | H | Electrophys map, 3d, add-on | 0.00 | 0.00 | 0.00 | 0.00 | 0.00 | 0.00 | XXX
A4263 |  | B | Permanent tear duct plug | 0.00 | 0.00 | 0.00 | 0.00 | 0.00 | 0.00 | XXX
A4329 |  | F | External catheter start set | 0.00 | 0.00 | 0.00 | 0.00 | 0.00 | 0.00 | XXX
A4550 |  | B | Surgical trays | 0.00 | 0.00 | 0.00 | 0.00 | 0.00 | 0.00 | XXX
A5064 |  | F | Drain ostomy pouch w/fceplte | 0.00 | 0.00 | 0.00 | 0.00 | 0.00 | 0.00 | XXX
A5074 |  | F | Urinary pouch w/faceplate | 0.00 | 0.00 | 0.00 | 0.00 | 0.00 | 0.00 | XXX
A5075 |  | F | Urinary pouch on faceplate | 0.00 | 0.00 | 0.00 | 0.00 | 0.00 | 0.00 | XXX
G0025 |  | B | Collagen skin test kit | 0.00 | 0.00 | 0.00 | 0.00 | 0.00 | 0.00 | XXX
G0126 |  | F | Lung image (PET) staging | 0.00 | 0.00 | NA | 0.00 | 0.00 | NA | XXX
G0126 | 26 | F | Lung image (PET) staging | 0.00 | 0.00 | 0.00 | 0.00 | 0.00 | 0.00 | XXX
G0126 | TC | F | Lung image (PET) staging | 0.00 | 0.00 | NA | 0.00 | 0.00 | NA | XXX
G0163 |  | F | Pet for rec of colorectal ca | 0.00 | 0.00 | NA | 0.00 | 0.00 | NA | XXX
G0163 | 26 | F | Pet for rec of colorectal ca | 0.00 | 0.00 | 0.00 | 0.00 | 0.00 | 0.00 | XXX
G0163 | TC | F | Pet for rec of colorectal ca | 0.00 | 0.00 | NA | 0.00 | 0.00 | NA | XXX
G0164 |  | F | Pet for lymphoma staging | 0.00 | 0.00 | NA | 0.00 | 0.00 | NA | XXX
G0164 | 26 | F | Pet for lymphoma staging | 0.00 | 0.00 | 0.00 | 0.00 | 0.00 | 0.00 | XXX
G0164 | TC | F | Pet for lymphoma staging | 0.00 | 0.00 | NA | 0.00 | 0.00 | NA | XXX
G0165 |  | F | Pet, rec melanoma/met ca | 0.00 | 0.00 | NA | 0.00 | 0.00 | NA | XXX
G0165 | 26 | F | Pet, rec melanoma/met ca | 0.00 | 0.00 | 0.00 | 0.00 | 0.00 | 0.00 | XXX
G0165 | TC | F | Pet, rec melanoma/met ca | 0.00 | 0.00 | NA | 0.00 | 0.00 | NA | XXX
G0203 |  | F | Screenmamammographyfilmdigital | 0.00 | 0.00 | 0.00 | 0.00 | 0.00 | 0.00 | XXX
G0205 |  | F | Diagnostic mammography filmpro | 0.00 | 0.00 | 0.00 | 0.00 | 0.00 | 0.00 | XXX
G0205 | 26 | F | Diagnostic mammographyfilmpro | 0.00 | 0.00 | 0.00 | 0.00 | 0.00 | 0.00 | XXX
G0205 | TC | F | Diagnostic mammographyfilmpro | 0.00 | 0.00 | 0.00 | 0.00 | 0.00 | 0.00 | XXX
G0207 |  | F | Diagnostic mammographyfilm | 0.00 | 0.00 | 0.00 | 0.00 | 0.00 | 0.00 | XXX
G0207 | 26 | F | Diagnostic mammographyfilm | 0.00 | 0.00 | 0.00 | 0.00 | 0.00 | 0.00 | XXX
G0207 | TC | F | Diagnostic mammographyfilm | 0.00 | 0.00 | 0.00 | 0.00 | 0.00 | 0.00 | XXX
J7193 |  | X | Factor IX non-recombinant | 0.00 | 0.00 | 0.00 | 0.00 | 0.00 | 0.00 | XXX
J7195 |  | X | Factor IX recombinant | 0.00 | 0.00 | 0.00 | 0.00 | 0.00 | 0.00 | XXX
J7198 |  | X | Anti-inhibitor | 0.00 | 0.00 | 0.00 | 0.00 | 0.00 | 0.00 | XXX
J7199 |  | X | Hemophilia clot factor noc | 0.00 | 0.00 | 0.00 | 0.00 | 0.00 | 0.00 | XXX
Q0187 |  | X | Factor via recombinant | 0.00 | 0.00 | 0.00 | 0.00 | 0.00 | 0.00 | XXX
Q3014 |  | X | Telehealth facility fee | 0.00 | 0.00 | 0.00 | 0.00 | 0.00 | 0.00 | XXX
Q3017 |  | X | ALS assessment | 0.00 | 0.00 | 0.00 | 0.00 | 0.00 | 0.00 | XXX

19. In the Table of Addendum B the following HCPCS codes are corrected to read as follows:

CPT ¹ HCPCS2 | MOD | Status | Description | Physician Work RVUs | Fully implemented non-facility PE RVUs | Fully implemented facility PE RVUs | Malpractice RVUs | Fully implemented non-facility total | Fully implemented facility total | Global
92597 |  |  | Oral speech device eval | +1.35 | 1.49 | 0.54 | 0.05 | 2.89 | 1.94 | XXX
92598 |  |  | Modify oral speech device | +0.99 | 0.76 | 0.40 | 0.04 | 1.79 | 1.43 | XXX
99375 |  |  | Home health care supervision | +1.73 | 1.57 | NA | 0.06 | 3.36 | NA | XXX
99378 |  |  | Hospice care supervision | +1.73 | 1.97 | NA | 0.06 | 3.76 | NA | XXX

20. In the Table of Addendum B the following HCPCS codes are corrected to read as follows:

CPT ¹ HCPCS2 | MOD | Status | Description | Physician Work RVUs | Fully implemented non-facility PE RVUs | Fully implemented facility PE RVUs | Malpractice RVUs | Fully implemented non-facility total | Fully implemented facility total | Global
76390 |  | N | Mr spectroscopy | 1.40 | 11.14 | NA | 0.55 | 13.09 | NA | XXX
76390 | 26 | N | Mr spectroscopy | 1.40 | 0.50 | 0.50 | 0.06 | 1.96 | 1.96 | XXX
76390 | TC | N | Mr spectroscopy | 0.00 | 10.64 | NA | 0.49 | 11.13 | NA | XXX
90887 |  | N | Consultation with family | +1.48 | 0.83 | 0.59 | 0.03 | 2.34 | 2.10 | XXX

21. In the Table of Addendum B the following HCPCS codes are corrected to read as follows:

CPT ¹ HCPCS2 | MOD | Status | Description | Physician Work RVUs | Fully implemented non-facility PE RVUs | Fully implemented facility PE RVUs | Malpractice RVUs | Fully implemented non-facility total | Fully implemented facility total | Global
36533 |  | A | insertion of access device | 5.32 | 15.34 | 3.50 | 0.49 | 21.15 | 9.31 | 000

22. In the Tables of Addendum B and C the following CPT codes are corrected to read as follows:

CPT ¹ HCPCS2 | MOD | Status | Description | Physician Work RVUs | Fully implemented non-facility PE RVUs | Fully implemented facility PE RVUs | Malpractice RVUs | Fully implemented non-facility total | Fully implemented facility total | Global
76085 |  | A | Computer mammogram add-on | 0.06 | 0.41 | NA | 0.02 | 0.49 | NA | ZZZ
76085 | TC | A | Computer mammogram add-on | 0.00 | 0.39 | NA | 0.01 | 0.40 | NA | ZZZ

23. In the Tables of Addendum B and C the following CPT codes are corrected to read as follows:

CPT ¹ HCPCS2 | MOD | Status | Description | Physician Work RVUs | Fully implemented non-facility PE RVUs | Fully implemented facility PE RVUs | Malpractice RVUs | Fully implemented non-facility total | Fully implemented facility total | Global
93025 |  | A | Microvolt t-wave assess | 0.75 | 6.51 | NA | 0.11 | 7.37 | NA | XXX
93025 | 26 | A | Microvolt t-wave assess | 0.75 | 0.32 | 0.32 | 0.02 | 1.09 | 1.09 | XXX
93025 | TC | A | Microvolt t-wave assess | 0.00 | 6.19 | NA | 0.09 | 6.28 | NA | XXX

24. In the Tables of Addenda B and C the following CPT codes are corrected to read as follows:

CPT ¹ HCPCS2 | MOD | Status | Description | Physician work RVUs | Fully implemented non-facility PE RVUs | Fully implemented facility PE RVUs | Mal-practice RVUs | Fully implemented non-facility total | Fully implemented facility total | Global
93613 |  | C | Electrophys map, 3d, add-on | 0.00 | 0.00 | 0.00 | 0.00 | 0.00 | 0.00 | ZZZ
93662 | TC | C | Intracardiac ecg (ice) | 0.00 | 0.00 | NA | 0.00 | 0.00 | NA | ZZZ
95824 |  | C | Electroencephalography | 0.00 | 0.00 | 0.00 | 0.00 | 0.00 | 0.00 | ZZZ
95824 | TC | C | Electroencephalography | 0.00 | 0.00 | NA | 0.00 | 0.00 | NA | ZZZ

25. In the Tables of Addenda B and C the following CPT codes are corrected to read as follows:

CPT¹ HCPCS2 | MOD | Status | Description | Physician work RVUs | Fully implemented non-facility PE RVUs | Fully implemented facility PE RVUs | Mal-practice RVUs | Fully implemented non-facility total | Fully implemented facility total | Global
76092 |  | A | mammogram, screening | 0.70 | 1.47 | NA | 0.09 | 2.26 | NA | XXX
76092 | TC | A | mammogram, screening | 0.00 | 1.22 | NA | 0.06 | 1.28 | NA | XXX
92136 |  | A | Ophthalmic biometry | 0.54 | 1.95 | NA | 0.07 | 2.56 | NA | XXX
92136 | 26 | A | Ophthalmic biometry | 0.54 | 0.26 | 0.26 | 0.01 | 0.81 | 0.81 | XXX
92136 | TC | A | Ophthalmic biometry | 0.00 | 1.69 | NA | 0.06 | 1.75 | NA | XXX
95250 |  | A | Glucose monitoring, cont | 0.00 | 3.02 | NA | 0.01 | 3.03 | NA | XXX
95808 |  | A | Polysomnography, 1-3 | 2.65 | 9.54 | NA | 0.44 | 12.63 | NA | XXX
95808 | 26 | A | Polysomnography, 1-3 | 2.65 | 0.99 | 0.99 | 0.09 | 3.73 | 3.73 | XXX
95808 | TC | A | Polysomnography, 1-3 | 0.00 | 8.55 | NA | 0.35 | 8.90 | NA | XXX
95810 |  | A | Polysomnography, 4 or more | 3.53 | 16.92 | NA | 0.47 | 20.92 | NA | XXX
95810 | 26 | A | Polysomnography, 4 or more | 3.53 | 1.26 | 1.26 | 0.12 | 4.91 | 4.91 | XXX
95810 | TC | A | Polysomnography, 4 or more | 0.00 | 15.66 | NA | 0.35 | 16.01 | NA | XXX
95811 |  | A | Polysomnography, wcpap | 3.80 | 17.19 | NA | 0.49 | 21.48 | NA | XXX
95811 | 28 | A | Polysomnography, wcpap | 3.80 | 1.34 | 1.34 | 0.13 | 5.27 | 5.27 | XXX
95811 | TC | A | Polysomnography, wcpap | 0.00 | 15.85 | NA | 0.36 | 16.21 | NA | XXX
95903 |  | A | Motor nerve conduction | 0.60 | 0.81 | NA | 0.04 | 1.45 | NA | XXX
95903 | 26 | A | Motor nerve conduction | 0.60 | 0.27 | 0.27 | 0.02 | 0.89 | 0.89 | XXX
95903 | TC | A | Motor nerve conduction | 0.00 | 0.54 | NA | 0.02 | 0.56 | NA | XXX
95951 |  | A | EEG monitoring/videorecord | 6.00 | 39.72 | NA | 0.58 | 46.30 | NA | XXX
95951 | TC | A | EEG monitoring/videorecord | 0.00 | 37.00 | NA | 0.38 | 37.38 | NA | XXX
95956 |  | A | Eeg monitoring, cable/radio | 3.08 | 12.34 | NA | 0.47 | 15.89 | NA | XXX
95956 | TC | A | Eeg monitoring, cable/radio | 0.00 | 11.04 | NA | 0.36 | 11.40 | NA | XXX
G0108 |  | A | Diab manage trn per indiv | 0.00 | 0.82 | NA | 0.01 | 0.83 | NA | XXX
G0109 |  | A | Diab manage trn indi/group | 0.00 | 0.48 | NA | 0.01 | 0.49 | NA | XXX
G0236 |  | A | digital film convert diag ma | 0.06 | 0.41 | NA | 0.02 | 0.49 | NA | ZZZ
G0236 | TC | A | digital film convert diag ma | 0.00 | 0.39 | NA | 0.01 | 0.40 | NA | ZZZ

26. In the Table of Addendum B the following CPT codes are corrected to read as follows:

CPT¹ HCPCS2 | MOD | Status | Description | Physician work RVUs | Fully implemented non-facility PE RVUs | Fully implemented facility PE RVUs | Mal-practice RVUs | Fully implemented non-facility total | Fully implemented facility total | Global
97601 |  | A | Wound(s) care selective | 0.50 | 0.61 | 0.61 | 0.04 | 1.15 | 1.15 | XXX

27. The following HCPCS codes should be added to the Table of Addendum C to read as follows:

CPT¹ HCPCS2 | MOD | Status | Description | Physician work RVUs | Fully implemented non-facility PE RVUs | Fully implemented facility PE RVUs | Mal-practice RVUs | Fully implemented non-facility total | Fully implemented facility total | Global
G0237 |  | A | Therapeutic procd strg endur | 0.00 | 0.45 | NA | 0.02 | 0.47 | NA | XXX
G0238 |  | C | Oth resp proc, indiv | 0.00 | 0.00 | 0.00 | 0.00 | 0.00 | 0.00 | XXX
G0239 |  | C | Oth resp proc, group | 0.00 | 0.00 | 0.00 | 0.00 | 0.00 | 0.00 | XXX

V. Addendum E [Corrected]

28. In the table of Addendum E, the following HCPCS codes for Radiation Therapy Services and Supplies are added immediately following HCPCS code 92974 and the following HCPCS codes for Preventive Screening Tests, Immunizations and Vaccines are added immediately following HCPCS code 90732:

Radiation Therapy Services and Supplies
G0242 | Multisource photon stero plan.
G0243 | Multisource photon stero treat.

Preventive Screening Tests, Immunizations and Vaccines
90744 | Hep b vacc ped/adol 3 dose im.
90746 | Hep b vaccine, adult im.
90747 | Hep b vacc, ill pat 4 dose im.

29. In the table of Addendum E, the following HCPCS codes are removed:

Radiology
76390 | MR spectroscopy.
G0188 | Xray lwr extrmty-full lngth.

Preventive Screening Tests, Immunizations and Vaccines
Q3018 | Hepatitis B vaccine.

VI. Waiver of Proposed Rulemaking

We ordinarily publish a notice of proposed rulemaking in the Federal Register to provide a period for public comment before the provisions of a Notice take effect. We can waive this procedure, however, if we find good cause that notice and comment procedure is impracticable, unnecessary, or contrary to the public interest and incorporate a statement of the finding and the reasons for it into the notice issued.

We find it unnecessary to undertake notice and comment rulemaking because this document merely provides technical corrections to the regulations. Therefore, we find good cause, we waive notice and comment procedures.

Authority: (Catalog of Federal Domestic Assistance Program No. 93.774, Medicare-Supplementary Medical Insurance Program)

Dated: April 11, 2002.
Ann C. Agnew,
Executive Secretary to the Department.

[FR Doc. 02-9395 Filed 4-25-02; 8:45 am]

BILLING CODE 4120-01-P